DEPARTMENT OF AGRICULTURE

Agricultural Marketing Service

7 CFR Part 29

[Doc. No. AMS-CN-25-0027]

RIN 0581-AE39

Tobacco Grading and Inspections Services—Rescission of Regulations Establishing Tobacco Price Support Provisions

Correction

In rule document 2025-09552, appearing on pages 22843 through 22845 in the issue of Friday, May 30, 2025, make the following correction:

On page 22843, in the DATES section, in the second line, “June 30, 2025” should read “July 29, 2025”.

[FR Doc. C1-2025-09552 Filed 6-2-25; 8:45 am]

BILLING CODE 0099-10-P